DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under section 250(b)(1) of subchapter D, chapter 2, title II, of the Trade Act of 1974, as amended, are identified in the appendix to this Notice. Upon notice from a Governor that a NAFTA-TAA petition has been received, the Director of the Division of Trade Adjustment Assistant (DTAA), Employment and Training Administration (ETA), Department of Labor (DOL), announces the filing of the petition and takes action pursuant to paragraphs (c) and (e) of section 250 of the Trade Act.

The pursuant of the Governor's actions and the Labor Department's investigations are to determine whether the workers separated from employment on or after December 8, 1993 (date of enactment of Pub. L. 103-182) are eligible to apply for NAFTA-TAA under subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than September 19, 20002.

Also, interested persons are invited to submit written comments regarding the subject matter of the petitions to the Director of DTAA at the address shown below not later than September 19, 2002.

Petitions filed with the Governors are available for inspection at the Office of the Director, DTAA, ETA, DOL, Room C-5311, 200 Constitution Avenue, NW., Washington, DC 20210.

Signed at Washington, DC, this 22nd day of August, 2002.
Edward A. Tomchick,
Director, Division of Trade Adjustment Assistance.

Appendix
Subject firm | Location | Date received at governor's office | Petition No. | Articles produced
Reliant Manufacturing (UAW) | Chesterfield, MI | 8/13/2002 | NAFTA-6,467 | auto parts.
TI Automotive Systems (Co.) | Sanford, FL | 8/16/2002 | NAFTA-6,468 | air conditioning parts.
Sun Belt Interplex (Wkrs) | Tamarac, FL | 8/19/2002 | NAFTA-6,469 | precision metal stampings.
Citation Corp.—Interstate Forging Ind. (Wkrs) | Milwaukee, WI | 8/19/2002 | NAFTA-6,470 | steel forged parts.
Wisconsin Patterson (Wkrs) | Racine, WI | 8/15/2002 | NAFTA-6,471 | core boxes.
Ericsson, Inc. (Co.) | Brea, CA | 8/01/2002 | NAFTA-6,472 | software components.
Lucedale Industries (Co.) | Lucedale, MS | 8/09/2002 | NAFTA-6,473 | knit shirts.
Yakima Products—Watermark (Co.) | Arcata, CA | 8/11/2002 | NAFTA-6,474 | automotive roof racks.
Tyco Electronic (Co.) | Fuquay Varina, NC | 8/13/2002 | NAFTA-6,475 | wedge connectors and tooling.
New River Energetics (PACE) | Radford, VA | 3/13/2002 | NAFTA-6,476 | MACS propellant.
Stan's Wood Products (Wkrs) | Redmond, OR | 8/05/2002 | NAFTA-6,477 | particalboard.
Black and Decker (Wkrs) | Easton, MD | 8/09/2002 | NAFTA-6,478 | steel machining.
Kraft Foods (Co.) | Holland, MI | 8/15/2002 | NAFTA-6,479 | hardcandy and mints.
Piece Dye Acquisition (Co.) | Edenton, NC | 8/15/2002 | NAFTA-6,480 | finished textiles.

[FR Doc. 02-22830 Filed 9-6-02; 8:45 am]

BILLING CODE 4510-30-M